DEPARTMENT OF ENERGY

Federal Energy Regulatory Commission

[Docket No. CP18-116-000]

Texas Gas Transmission, LLC; Notice of Request for Extension of Time

Take notice that on May 26, 2020, Texas Gas Transmission, LLC (Texas Gas) requested that the Federal Energy Regulatory Commission (Commission) grant an extension of time, until June 26, 2021, to abandon the North Lake Pagie/Bay Junop-Bay Round Project (Project) located in Terrebonne Parish, Louisiana authorized on June 26, 2018.

Texas Gas was initially required to abandon the Project by June 26, 2019. On June 10, 2019, the Commission extended this deadline through June 26, 2020 to accommodate ongoing landowner negotiations and to obtain the necessary environmental permits for the Project, per Texas Gas's request. Texas Gas now requests for an additional year to complete abandonment activities by June 26, 2021. Texas Gas states that landowner negotiations are ongoing and that it continues to work on obtaining a Coastal Use Permit prior to commencing the Project. Accordingly, Texas Gas believes landowner negotiations and the obtainment of a Coastal Use Permit are imminent.

This notice establishes a 15-calendar day intervention and comment period deadline. Any person wishing to comment on Texas Gas request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).¹

¹ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act.⁵ At the time a pipeline requests an extension of time, orders on certificates of public convenience and necessity are final and the Commission will not re-litigate their issuance.⁶ The OEP Director, or his or her designee, will act on all of those extension requests that are uncontested.

² Contested proceedings are those where an intervenor disputes any material issue of the filing. 18 CFR 385.2201(c)(1) (2019).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5:00 p.m. Eastern Time on June 16, 2020.

Dated: June 1, 2020.
Kimberly D. Bose,
Secretary.

[FR Doc. 2020-12473 Filed 6-8-20; 8:45 am]

BILLING CODE 6717-01-P